DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 17, 2008.

Address Comments To: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC, or at http://dms.dot.gov.

This notice of receipt of applications for special permit is published in accordance with Part 107 of the Federal hazardous materials transportation law (49 U.S.C. 5117(b); 49 CFR 1.53(b)).

Issued in Washington, DC, on October 7, 2008.
Delmer F. Billings,
Director, Office of Hazardous Materials, Special Permits and Approvals.

New Special Permits
Application No. | Docket No. | Applicant | Regulation(s) affected | Nature of special permits thereof
14774-N |  | Mercury Marine, Fond du Lac, WI | 49 CFR 176.905(i) | To authorize the transportation in commerce of internal combustion engines that contain small amounts of hazardous materials residue by cargo vessel. (mode 3).
14776-N |  | Dollar General, Scottsville, KY | 49 CFR 173.213, 172.301(a) and 172.400(a) | To authorize the one-way Corporation transportation in commerce of Class 9 hazardous waste in palletized non-DOT specification packaging with alternative marking and labeling. (mode 1).
14777-N |  | General Dynamics, Marion, IL | 49 CFR 173.213 | To authorize the one-way transportation in commerce of Class 9 hazardous waste in alternative packaging for approximately 8 miles by motor vehicle. (mode 1).
14778-N |  | Metalcraft/Sea-Fire Marine Inc., Baltimore, MD | 49 CFR 173.301(f) | To authorize the transportation in commerce of non-DOT specification cylinders containing a Division 2.2 compressed gas for export only. (modes 1, 3, 4, 5).
14779-N |  | Corrosion Companies Inc., Washougal, WA | 49 CFR 107.503(b) and (c), 172.102(c)(3) Special Provisions B15 and B23, 173.241, 173.242, 173.243 and 173.345 | To authorize the manufacture, marking, sale and use of non-DOT Specification cargo tank motor vehicle conforming to DOT 407/412 with certain exceptions. (mode 1).
14780-N |  | Flexcon Industries, Randolph, MA | 49 CFR 173.115(b)(1) | To authorize the manufacture, marking, sale and use of pre pressurized diaphragm expansion vessels for the transportation of compressed gas. (modes 1, 2, 3).

[FR Doc. E8-24618 Filed 10-16-08; 8:45 am]

BILLING CODE 4909-60-M